DEPARTMENT OF LABOR

Office of the Secretary

Submission for OMB Review: Comment Request

October 26, 2007.

The Department of Labor (DOL) hereby announces the submission the following public information collection request (ICR) to the Office of Management and Budget (OMB) for review and approval in accordance with the Paperwork Reduction Act of 1995 (Pub. L. 104-13, 44 U.S.C. chapter 35). A copy of the ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: Brian A. Harris-Kojetin, OMB Desk Officer for the Bureau of Labor Statistics (BLS), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Revision of a previously approved collection.

Title: National Compensation Survey.

OMB Control Number: 1220-0164.

Affected Public: Private Sector: Business or other for-profits and not-for-profits institutions.

Estimated Number of Respondents: 34,929.

Estimated Total Annual Burden Hours: 49,644.

Estimated Total Annual Costs Burden: $0.

Description: Under the National Compensation Survey (NCS), the Bureau of Labor Statistics (BLS) conducts ongoing surveys of compensation (earning and benefits) and job characteristics. The NCS produces data on local, regional and national levels by sampling establishments various localities in all 50 states and the District of Columbia. The NCS samples 152 areas, of which 117 are metropolitan areas. Data from the 48 contiguous States is used to provide data to the President's Pay Agent to meet the BLS obligation under the Federal Employees Pay Comparability Act (FEPCA). NCS data produces the Employment Cost Index (ECI) which is designated as a principal Federal Economic Indicator under OMB Statistical Policy Directive No. 3.

Darrin A. King,
Acting Departmental Clearance Officer.

[FR Doc. E7-21456 Filed 10-30-07; 8:45 am]

BILLING CODE 4510-24-P